DEPARTMENT OF LABOR

Employee Benefits Security Administration

Advisory Council on Employee Welfare and Pension Benefit Plans; Working Group on Plan Asset Rules, Exemptions and Cross Trading, Working Group on a Procedurally Prudent Investment Process, and Working Group on Health Information Technology; Notice of Meeting

Pursuant to the authority contained in section 512 of the Employee Retirement Income Security Act of 1974 (ERISA), 29 U.S.C. 1142, a public meeting will be held on November 7, 2006 of the Working Groups assigned by the Advisory Council on Employee Welfare and Pension Benefit Plans to study the issues of (1) plan asset rules, exemptions and cross trading, (2) a procedurally prudent investment process, and (3) health information technology.

The sessions will take place in Room S4215 A-B, U.S. Department of Labor, 200 Constitution Avenue, NW., Washington, DC 20210. The purpose of the open meeting is for the Working Groups to conclude their reports/recommendations for the Secretary of Labor. The meeting will start at 12:30 p.m. with the Working Group on Plan Asset Rules, Exemptions and Cross Trading, followed by the Working Group on a Procedurally Prudent Investment Process, followed by the Working Group on Health Information Technology.

Organizations or members of the public wishing to submit a written statement pertaining to the topic may do so by submitting 25 copies on or before October 31, 2006 to Larry Good, Executive Secretary, ERISA Advisory Council, U.S. Department of Labor, Suite N-5623, 200 Constitution Avenue, NW., Washington, DC 20210. Statements also may be submitted electronically to good.larry@dol.gov. Statements received on or before October 31, 2006 will be included in the record of the meeting. Individuals or representatives of organizations wishing to address any of the Working Groups should forward their requests to the Executive Secretary or telephone (202) 693-8668. Oral presentations will be limited to 10 minutes, time permitting, but an extended statement may be submitted for the record. Individuals with disabilities who need special accommodations should contact Larry Good by October 31 at the address indicated.

Signed at Washington, DC this 16th day of October, 2006.
Ann L. Combs,
Assistant Secretary, Employee Benefits Security Administration.

[FR Doc. E6-17725 Filed 10-20-06; 8:45 am]

BILLING CODE 4510-29-P